DEPARTMENT OF COMMERCE

National Oceanic and Atmospheric Administration

50 CFR Part 622

[Docket No. 250923-0159]

RIN 0648-BN62

Fishery Management Plans of St. Croix and St. Thomas and St. John; Queen Triggerfish Management Measures

AGENCY: National Marine Fisheries Service (NMFS), National Oceanic and Atmospheric Administration (NOAA), Commerce.

ACTION: Proposed rule; request for comments.

SUMMARY: NMFS proposes to implement management measures described in Framework Action 3 under both the St. Croix Fishery Management Plan (FMP) and the St. Thomas and St. John FMP (collectively Framework Action 3), as prepared by the Caribbean Fishery Management Council (Council). If implemented, this proposed rule would modify the annual catch limits (ACLs) for queen triggerfish in Federal waters around St. Croix and in Federal waters around St. Thomas and St. John. The purpose of this proposed rule and Framework Action 3 is to update management reference points for queen triggerfish under the St. Croix FMP and the St. Thomas and St. John FMP consistent with the most recent stock assessments to prevent overfishing and achieve optimum yield (OY).

DATES: Written comments must be received by November 3, 2025.

ADDRESSES: A plain language summary of this proposed rule is available at https://www.regulations.gov/docket/NOAA-NMFS-2025-0032. You may submit comments on this document, identified by “NOAA-NMFS-2025-0032” by either of the following methods:

• Electronic Submission: Submit all electronic public comments via the Federal e-Rulemaking Portal. Visit https://www.regulations.gov and enter “NOAA-NMFS-2025-0032” in the Search box. Click on the “Comment” icon, complete the required fields, and enter or attach your comments.

• Mail: Submit all written comments to Sarah Stephenson, Southeast Regional Office, NMFS, 263 13th Avenue South, St. Petersburg, FL 33701.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

Electronic copies of Framework Action 3, which includes an environmental assessment, a regulatory impact review, and a Regulatory Flexibility Act (RFA) analysis, may be obtained from the Southeast Regional Office website at https://www.fisheries.noaa.gov/action/framework-action-3-under-st-croix-and-st-thomas-and-st-john-fishery-management-plans.

FOR FURTHER INFORMATION CONTACT: Sarah Stephenson, 727-824-5305, sarah.stephenson@noaa.gov.

SUPPLEMENTARY INFORMATION: NMFS, with the advice of the Council, manages the St. Croix fishery and St. Thomas and St. John fishery under the St. Croix FMP and the St. Thomas and St. John FMP. Queen triggerfish is managed as an individual stock under each FMP. NMFS implements the St. Croix FMP and the St. Thomas and St. John FMP through regulations at 50 CFR part 622 under the authority of the Magnuson-Stevens Fishery Conservation and Management Act (Magnuson-Stevens Act).

Background

The Magnuson-Stevens Act requires NMFS to prevent overfishing and to achieve, on a continuing basis, the OY from federally managed fish stocks to ensure that fishery resources are managed for the greatest overall benefit to the Nation, particularly with respect to providing food production and recreational opportunities, and protecting marine ecosystems.

This action is taken under the statutory authority of the Magnuson-Stevens Act section 303(a)(1) as necessary and appropriate for the conservation and management of the fishery to prevent overfishing and to promote the long-term health and stability of the fishery.

The St. Croix FMP and St. Thomas and St. John FMP were approved by the Secretary of Commerce on September 22, 2020, along with the Puerto Rico FMP, under section 304(a)(3) of the Magnuson-Stevens Act. NMFS published the final rule to implement the FMPs on September 13, 2022 (87 FR 56204), which took effect on October 13, 2022. Each FMP contains management measures applicable for Federal waters off the respective island management area, including the current ACL values for the St. Croix and the St. Thomas and St. John queen triggerfish stocks. Federal regulations at 50 CFR part 622 subparts T and U describe management measures for St. Croix and for St. Thomas and St. John, respectively. Federal waters around St. Croix, St. Thomas, and St. John extend seaward from 3 nautical miles (5.6 kilometers) from shore of each island district to the offshore boundary of the U.S. Caribbean exclusive economic zone (EEZ).

The St. Croix FMP and St. Thomas and St. John FMP established status determination criteria (SDC) and other management reference points for queen triggerfish in Federal waters around each management area.

Each FMP applies a four-tiered acceptable biological catch (ABC) control rule depending on differing levels of data availability. Each tier specifies SDC, such as the maximum fishing mortality threshold (MFMT), minimum stock size threshold (MSST), and overfishing limit (OFL), or OFL proxy, and other reference points such as the maximum sustainable yield (MSY), or MSY proxy, and ABC. Under the ABC control rule, tier 1 applies to stocks with the most data available, and each subsequent tier operates with less available data than the preceding tier. Tier 4, the final tier, is the most data limited and applies when no accepted quantitative assessment is available. Tier 4 contains two sub-tiers, tier 4a and tier 4b, which are based on an understanding of the stock's vulnerability to fishing pressure. Tier 4a applies when the stock's vulnerability to fishing pressure is relatively low or moderate, while tier 4b applies to stocks with a high vulnerability to fishing pressure.

In both the St. Croix FMP and St. Thomas and St. John FMP, queen triggerfish is considered a tier 4a stock and the MSY proxy, MFMT, and MSST were defined, but as a result of data limitations, were not quantified. Similarly, the OFL for each stock could not be quantified. As such, a new reference point, the sustainable yield level (SYL), was quantified and used as the OFL proxy. The SYL is a level of landings that can be sustained by a stock over the long-term. For queen triggerfish in each FMP, the Council's Scientific and Statistical Committee (SSC) derived the ABC from the SYL, and the Council recommended the ACL for the stock be equal to 95 percent of the SSC's recommended ABC. The ACL was set equal to OY.

All weights described in this proposed rule are in round weight.

For the St. Croix queen triggerfish stock, the ACL is 21,450 pounds (lb; 9,729.5 kilograms [kg]). For the St. Thomas and St. John queen triggerfish stock, the ACL is 97,670 lb (44,302.3 kg).

In 2024, the Southeast Data, Assessment, and Review (SEDAR) stock assessments were completed for queen triggerfish in St. Croix and in St. Thomas and St. John (SEDAR 80). The Council's SSC reviewed results from SEDAR 80 in April 2024, and determined that the stock assessments were suitable for short-term (i.e., <5 years) management advice. The SSC recommended ABCs for the St. Croix and St. Thomas and St. John queen triggerfish stocks using Tier 3b of the ABC control rule in each FMP. Under Tier 3b, the ABC is derived from the OFL by applying a buffer to account for scientific uncertainty (ABC = buffer * OFL), where the buffer must be less than or equal to 0.9. The OFL values projected by the SEDAR 80 models used a fishing mortality rate at MSY (FMSY) proxy based on a spawning potential ratio of 0.4. The constant catch at the FMSY proxy was used to establish the ABC. The OFL values and buffers used to set the ABC from the OFL varied for years 2024 through 2027. The ABC values recommended for queen triggerfish in St. Croix and in St. Thomas and St. John for years 2024 through 2027 were a constant value.

NMFS notes that Framework Action 3 includes recommended OFLs and ABCs for fishing year 2024. However, due to delays in development of the action and implementation of the proposed rule, the SYL and ABC for queen triggerfish specified under the St. Croix FMP and the St. Thomas and St. John FMP were the OFL proxy and ABC effective for fishing year 2024.

Under tier 3, if the biomass of the stock goes below MSST, the stock would be determined to be overfished and the Council would need to develop a rebuilding plan capable of returning the stock to a level that allows the stock to achieve MSY on a continuing basis. Additionally, under tier 3, in years when there is a stock assessment, the stock would be considered to be undergoing overfishing if fishing mortality exceeds the MFMT. This level of fishing mortality, if continued, would reduce the stock biomass to an overfished condition. In years in which there is no assessment, the stock complex would be considered to be undergoing overfishing if landings exceed the OFL.

The SSC presented its ABC recommendations for St. Croix queen triggerfish and St. Thomas and St. John queen triggerfish at the April 2024 Council meeting. The Council accepted those recommendations and developed Framework Action 3 to update management reference points for queen triggerfish under each FMP to prevent overfishing and achieve OY, consistent with the requirements of the Magnuson-Stevens Act. In Framework Action 3, the Council recommended no management uncertainty buffer be applied for the St. Croix queen triggerfish stock (i.e., the ACL equals the ABC) and a 5 percent management uncertainty buffer for the St. Thomas and St. John queen triggerfish stock (i.e., the ACL equals 95 percent of the ABC).

The Council recommended that the queen triggerfish ACL should be set equal to the ABC for St. Croix because of the low demand for the species and the harvest methods used by the fishery to collect reef fish (e.g., mainly by spearfishing). The Council acknowledged that the demand for queen triggerfish in St. Thomas and St. John is greater than in St. Croix, and the gear used by fishermen who target the species (i.e., trap gear) is less selective than spearfishing. Therefore, they decided to set the queen triggerfish ACL equal to 95 percent of the ABC to account for differences in how the fishery operates, which would result in some management uncertainty.

Management Measures Contained in This Proposed Rule

If implemented, this proposed rule would revise the ACLs for queen triggerfish in Federal waters around St. Croix and St. Thomas and St. John based on the results of SEDAR 80. The queen triggerfish ACL in St. Croix would decrease from 21,450 lb (9,729.5 kg) to 18,808 lb (8,531 kg). The queen triggerfish ACL in St. Thomas and St. John would decrease from 97,670 lb (44,302.3 kg) to 92,919 lb (42,147 kg).

The updated ACLs, which are based upon the best scientific information available, are expected to better protect against the risk of overfishing the stock in relation to the current ACLs, thus ensuring, to the greatest extent practicable, continued access to the resource in future years.

Measures in Framework Action 3 Not Codified in This Proposed Rule

For both the St. Croix FMP and the St. Thomas and St. John FMP, estimates of the long-term recruitment for queen triggerfish in SEDAR 80 are unknown, so values for the MSY and MSST were not able to be quantified by the assessment. Consequently, in accordance with both FMPs, the MSY proxy equals 40 percent of the spawning potential ratio, and the MSST equals 75 percent of the spawning stock biomass produced when fishing at MSY or MSY proxy.

In addition to the ACL revisions described in this proposed rule and consistent with SEDAR 80, Framework Action 3 revises the MFMT, OFL, and ABC values for queen triggerfish under the St. Croix FMP and the St. Thomas and St. John FMP.

The MFMT, previously not quantified, would be 0.14 for St. Croix queen triggerfish and 0.16 for St. Thomas and St. John queen triggerfish.

For St. Croix, the OFL for queen triggerfish would vary for years 2025 to 2027. The OFL for 2025 (22,773 lb; 10,330 kg), 2026 (22,316 lb; 10,122 kg), and 2027 (22,025 lb; 9,990 kg) would decrease from the current SYL (OFL proxy) of 45,158 lb (20,483 kg). The queen triggerfish ABC would be set at a constant value, and would decrease from 22,579 lb (10,242 kg) to 18,808 lb (8,531 kg).

For St. Thomas and St. John, the OFL for queen triggerfish would vary for years 2025 to 2027. The OFL for 2025 (193,378 lb; 87,715 kg), 2026 (166,220 lb; 75,396 kg), and 2027 (148,223 lb; 67,233 kg) would decrease from the current SYL (OFL proxy) of 205,641 lb (93,268 kg). The queen triggerfish ABC would be set at a constant value, and would decrease from 102,810 lb (46,634 kg) to 97,809 lb (44,365 kg).

Consistent with SEDAR 80, the updated management reference points are expected to better protect against the risk of overfishing of the stock complex in relation to the current reference points, thus ensuring, to the greatest extent practicable, continued access to the resource in future years.

Classification

A description of this proposed rule, why it is being considered, and the legal basis for this proposed rule are contained in the SUMMARY and SUPPLEMENTARY INFORMATION sections of this proposed rule.

The Magnuson-Stevens Act provides the statutory basis for this proposed rule. No duplicative, overlapping, or conflicting Federal rules have been identified. In addition, no new reporting or record keeping compliance requirements are introduced in this proposed rule. All monetary figures in the following analysis are in 2022 dollars, consistent with the RFA analysis included in Framework Action 3.

Pursuant to section 304(b)(1)(A) of the Magnuson-Stevens Act, the NMFS Assistant Administrator has determined that this proposed rule is consistent with Framework Action 3, the St. Croix FMP and the St. Thomas and St. John FMP, the Magnuson-Stevens Act, and other applicable laws, subject to further consideration after public comment.

This proposed rule has been determined to be not significant for purposes of Executive Order 12866. This proposed rule is not an Executive Order 14192 regulatory action because this rule is not significant under Executive Order 12866.

The Chief Counsel for Regulation of the Department of Commerce certified to the Chief Counsel for Advocacy of the Small Business Administration that this proposed rule, if adopted, would not have a significant economic impact on a substantial number of small entities. The factual basis for this certification is as follows. A copy of the full analysis is available from NMFS (see ADDRESSES).

This proposed rule directly impacts recreational and commercial fishing for queen triggerfish in the EEZ off St. Croix, USVI, and St. Thomas and St. John, USVI. Recreational fishers (anglers) are not considered small entities as that term is defined in 5 U.S.C. 601(6), whether fishing from charter (for-hire) fishing, private, or leased vessels. Therefore, estimates of the number of anglers directly affected by this proposed rule and any impacts on them are neither required nor assessed here.

For-hire fishing businesses sell services to anglers. The proposed changes to the ACLs for queen triggerfish in St. Croix and in St. Thomas and St. John would not directly alter the services sold by for-hire fishing businesses. Any change in demand for these fishing services, and associated economic effects, as a result of this proposed rule would be a consequence of a change in anglers' behavior, secondary to any direct effect on anglers. Therefore, any impact on for-hire fishing businesses would be an indirect effect of this proposed rule.

The most recent 5-year landings data by weight for use with the best available science are from 2015 through 2022. However, prices and revenues data are not available for the USVI after 2019. Consequently, estimates of the number of small commercial fishing businesses directly affected and any impacts on them are based on landings from 2015 through 2019, although landings by weight from 2020 through 2022 are used when further evaluating the potential impact.

From 2015 through 2019, an annual average of 126 USVI commercial fishermen collectively reported 3,750 trips with combined landings of marine resources of about 3.54 million lb (1.61 million kg) from all waters with a value of about $4.71 million. Maximum annual revenue for any of the USVI fishermen was $605,000.

For RFA purposes, NMFS has established a small business size standard for businesses, including their affiliates, whose primary industry is commercial fishing. A business primarily involved in the commercial fishing industry (North American Industrial Classification Code 11411) is classified as a small business if it is independently owned and operated, is not dominant in its field of operation (including its affiliates) and its combined annual receipts are no more than $11 million for all of its affiliated operations worldwide. The combined revenues of all active USVI commercial fishermen were less than that figure. NMFS therefore concluded that all commercial fishing businesses in the USVI (St. Croix and St. Thomas and St. John) are small.

Every USVI commercial fisherman is assumed to represent a unique small business. From 2015 through 2019, an annual average of 39 (31 percent) of the USVI's 126 active small commercial fishing businesses harvested 29,135 lb (13,215 kg) of queen triggerfish with a value of $199,483 from the EEZ and unknown waters. Thirteen (one-third) of the 39 small businesses landed queen triggerfish in St. Croix and the other 26 (two-thirds) landed queen triggerfish in St. Thomas and St. John. The 13 small businesses in St. Croix accounted for 12 percent of annual landings of queen triggerfish harvested from Federal and unknown waters by weight and 11 percent by value, while the 26 small businesses in St. Thomas and St. John accounted for 88 percent of the USVI's queen triggerfish landings harvested from Federal and unknown waters by weight and 89 percent by value.

This proposed rule would reduce the ACL for queen triggerfish in St. Croix from 21,450 lb (9,729.5 kg) to 18,808 lb (8,531.1 kg). It would also reduce the ACL for queen triggerfish in St. Thomas and St. John from 97,670 lb (44,302.3 kg) to 92,919 lb (42,147.3 kg).

No single year or multi-year average of landings of queen triggerfish harvested from all waters in St. Croix from 2015 through 2019 reached or exceeded the current or proposed ACL in St. Croix. Moreover, from 2020 through 2022, St. Croix's total queen triggerfish landings ranged from 4,476 lb (2,030.3 kg) to 10,066 lb (4,565.9 kg), never reaching or exceeding the current ACL or proposed ACL. As such, there would be no impact on small businesses in St. Croix from the change to the ACL.

No single year or multi-year average of landings of queen triggerfish harvested from all waters in St. Thomas and St. John from 2015 through 2019 reached or exceeded the current or proposed ACL in St. Thomas and St. John. Moreover, from 2020 through 2022, total queen triggerfish landings in St. Thomas and St. John ranged from 29,633 lb (13,441.3 kg) to 39,395 lb (17,869.3 kg), never reaching or exceeding the current or proposed commercial ACL. As such, there would be no impact on small businesses in St. Thomas and St. John from the change to the ACL.

Therefore, NMFS concluded that the proposed rule would not have a significant impact on a substantial number of small entities. As a result, an initial regulatory flexibility analysis is not required and none has been prepared.

This proposed rule contains no information collection requirements under the Paperwork Reduction Act of 1995.

List of Subjects in 50 CFR Part 622

Caribbean, Fisheries, Fishing, Reef fish, Triggerfish.

Dated: September 24, 2025.
Samuel D. Rauch, III,
Deputy Assistant Administrator for Regulatory Programs, National Marine Fisheries Service.

For the reasons set out in the preamble, NMFS proposes to amend 50 CFR part 622 as follows:

PART 622—FISHERIES OF THE CARIBBEAN, GULF OF AMERICA, AND SOUTH ATLANTIC

1. The authority citation for part 622 continues to read as follows:

Authority: 16 U.S.C. 1801 et seq.

2. In § 622.480, amend paragraph (a)(1) by revising the table heading and the entry for Triggerfishes for Table 1 to § 622.480(a)(1). The revisions read as follows:

§ 622.480 Annual catch limits (ACLs), annual catch targets (ACTs), and accountability measures (AMs).

(a) * * *

(1) * * *

Table 1 to Paragraph (a)(1)
Family | Stock or stock complex and species composition | ACL
* * * * * * *
Triggerfishes | Triggerfish—queen triggerfish | 18,808 lb (8,531 kg).

* * * * *

3. In § 622.515, amend paragraph (a)(1) by revising the table heading and the entry for Triggerfishes for Table 1 to § 622.515(a)(1). The revisions read as follows:

§ 622.515 Annual catch limits (ACLs), annual catch targets (ACTs), and accountability measures (AMs).

(a) * * *

(1) * * *

Table 1 to Paragraph (a)(1)
Family | Stock or stock complex and species composition | ACL
* * * * * * *
Triggerfishes | Triggerfish—queen triggerfish | 92,919 lb (42,147 kg).
* * * * * * *

* * * * *

[FR Doc. 2025-19363 Filed 10-1-25; 8:45 am]

BILLING CODE 3510-22-P